DEPARTMENT OF THE INTERIOR

Fish and Wildlife Service

RIN 1018-AT72

Draft Mosquito and Mosquito-Borne Disease Management Policy Pursuant to the National Wildlife Refuge System Improvement Act of 1997

AGENCY: Fish and Wildlife Service, Interior.

ACTION: Notice of reopening of comment period.

SUMMARY: We are reopening the comment period on the Federal Register notice published on October 15, 2007, that invited the public to comment on the Draft Mosquito and Mosquito-Borne Disease Management Policy Pursuant to the National Wildlife Refuge System Improvement Act of 1997.

DATES: Submit comments on or before February 19, 2008.

ADDRESSES: You may submit comments on this draft policy by mail to: Michael J. Higgins, Biologist, National Wildlife Refuge System, U.S. Fish and Wildlife Service, 4401 N. Fairfax Drive, Room 670, Arlington, Virginia 22203; by fax to 703-358-2248; or by e-mail to refugesystempolicycomments@fws.gov.

FOR FURTHER INFORMATION CONTACT: Michael J. Higgins, U.S. Fish and Wildlife Service, 177 Admiral Cochrane Drive, Annapolis, MD 21401. Telephone: 410-573-4520; FAX: 410-269-0832.

SUPPLEMENTARY INFORMATION: In a Federal Register notice dated October 15, 2007 (72 FR 58321), we published a draft policy for Mosquito and Mosquito-Borne Disease Management Policy Pursuant to the National Wildlife Refuge System Improvement Act of 1997. This draft policy outlines the procedures refuge managers will follow in planning and implementing mosquito and mosquito-borne disease management within the Refuge System.

We received several requests to extend the public comment period beyond the November 29, 2007, due date. In order to ensure that the public has an adequate opportunity to review and comment on our draft policy, we are reopening the comment period for an additional 60 days.

Dated: December 11, 2007.
Kenneth Stansell,
Acting Director, Fish and Wildlife Service.

[FR Doc. E7-24675 Filed 12-18-07; 8:45 am]

BILLING CODE 4310-55-P